DEPARTMENT OF ENERGY

Federal Energy Regulatory Commission

Combined Notice of Filings

Take notice that the Commission has received the following Natural Gas Pipeline Rate and Refund Report filings:

Filings Instituting Proceedings

Docket Numbers: RP18-584-000.

Applicants: Enable Gas Transmission, LLC.

Description: Annual Revenue Crediting Filing of Enable Gas Transmission, LLC.

Filed Date: 3/23/18.

Accession Number: 20180323-5202.

Comments Due: 5 p.m. ET 4/4/18.

Docket Numbers: RP18-234-001.

Applicants: Northern Border Pipeline Company.

Description: Compliance filing Settlement Compliance Period 2 Apr18-Dec19 to be effective 4/1/2018.

Filed Date: 3/27/18.

Accession Number: 20180327-5052.

Comments Due: 5 p.m. ET 4/9/18.

Docket Numbers: RP18-585-000.

Applicants: Iroquois Gas Transmission System, L.P.

Description: § 4(d) Rate Filing: 032718 Negotiated Rates—Uniper Global Commodities R-7650-02 to be effective 4/1/2018.

Filed Date: 3/27/18.

Accession Number: 20180327-5037.

Comments Due: 5 p.m. ET 4/9/18.

Docket Numbers: RP18-586-000.

Applicants: Tennessee Gas Pipeline Company, L.L.C.

Description: § 4(d) Rate Filing: Volume No. 2—Neg. Rate Agmt—MEX Gas Supply, S.L. SP301591—Amendment No. 2 to be effective 4/1/2018.

Filed Date: 3/27/18.

Accession Number: 20180327-5100.

Comments Due: 5 p.m. ET 4/9/18.

Docket Numbers: RP18-587-000.

Applicants: Iroquois Gas Transmission System, L.P.

Description: § 4(d) Rate Filing: 032718 Negotiated Rates—Vitol Inc. R-7495-06 to be effective 4/1/2018.

Filed Date: 3/27/18.

Accession Number: 20180327-5104.

Comments Due: 5 p.m. ET 4/9/18.

Docket Numbers: RP18-588-000.

Applicants: Iroquois Gas Transmission System, L.P.

Description: § 4(d) Rate Filing: 032718 Negotiated Rates—Macquarie Energy LLC R-4090-16 to be effective 4/1/2018.

Filed Date: 3/27/18.

Accession Number: 20180327-5106.

Comments Due: 5 p.m. ET 4/9/18.

Docket Numbers: RP18-589-000.

Applicants: Natural Gas Pipeline Company of America.

Description: § 4(d) Rate Filing: Amended Negotiated Rate Agreement—DTE Energy to be effective 4/1/2018.

Filed Date: 3/28/18.

Accession Number: 20180328-5000.

Comments Due: 5 p.m. ET 4/9/18.

Docket Numbers: RP18-590-000.

Applicants: Natural Gas Pipeline Company of America.

Description: § 4(d) Rate Filing: Amended Negotiated Rate Filing—Tenaska Marketing Ventures to be effective 4/1/2018.

Filed Date: 3/28/18.

Accession Number: 20180328-5001.

Comments Due: 5 p.m. ET 4/9/18.

Docket Numbers: RP18-591-000.

Applicants: Tennessee Gas Pipeline Company, L.L.C.

Description: § 4(d) Rate Filing: Volume No. 2—Neg Rate Agmt—Sequent Energy Mgmt SP100239—Correct Exhibit A to be effective 4/1/2018.

Filed Date: 3/28/18.

Accession Number: 20180328-5003.

Comments Due: 5 p.m. ET 4/9/18.

Docket Numbers: RP18-592-000.

Applicants: Rover Pipeline LLC.

Description: § 4(d) Rate Filing: Non-Conforming Agreement—3 in compliance with CP15-93 Order to be effective 5/1/2018.

Filed Date: 3/28/18.

Accession Number: 20180328-5028.

Comments Due: 5 p.m. ET 4/9/18.

Docket Numbers: RP18-593-000.

Applicants: Rover Pipeline LLC.

Description: § 4(d) Rate Filing: Non-Conforming Agreement List Update—3 to be effective 5/1/2018.

Filed Date: 3/28/18.

Accession Number: 20180328-5029.

Comments Due: 5 p.m. ET 4/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2018.
Nathaniel J. Davis, Sr.,
Deputy Secretary.

[FR Doc. 2018-06698 Filed 4-2-18; 8:45 am]

BILLING CODE 6717-01-P